DEPARTMENT OF ENERGY

Federal Energy Regulatory Commission

Combined Notice of Filings #1

Take notice that the Commission received the following electric corporate filings:

Docket Numbers: EC23-60-000.

Applicants: NTUA Generation-Utah, LLC.

Description: Application for Authorization Under Section 203 of the Federal Power Act of NTUA Generation-Utah, LLC.

Filed Date: 3/7/23.

Accession Number: 20230307-5183.

Comment Date: 5 p.m. ET 3/28/23.

Take notice that the Commission received the following electric rate filings:

Docket Numbers: ER23-68-004.

Applicants: PJM Interconnection, L.L.C.

Description: Tariff Amendment: Amendment to ISA, SA No. 1949; Queue No. NQ16 (amend) to be effective 12/12/2022.

Filed Date: 3/8/23.

Accession Number: 20230308-5007.

Comment Date: 5 p.m. ET 3/29/23.

Docket Numbers: ER23-651-001.

Applicants: Southwest Power Pool, Inc

Description: Tariff Amendment: 4010 Plum Nellie Wind Farm & ITCGP FSA-Deficiency Response to be effective 2/14/2023.

Filed Date: 3/8/23.

Accession Number: 20230308-5034.

Comment Date: 5 p.m. ET 3/29/23.

Docket Numbers: ER23-672-001.

Applicants: Southwest Power Pool, Inc

Description: Tariff Amendment: 4039SO Ponderosa Wind II & SPS FSA-Deficiency Response to be effective 5/8/2023.

Filed Date: 3/8/23.

Accession Number: 20230308-5002.

Comment Date: 5 p.m. ET 3/29/23.

Docket Numbers: ER23-1261-000.

Applicants: Dynegy Marketing and Trade, LLC.

Description: Dynegy Marketing and Trade, LLC Request Additional Cost Recovery Pursuant to Section III.A.15 of Appendix A to Market Rule 1 of the ISO New England Tariff.

Filed Date: 3/6/23.

Accession Number: 20230306-5206.

Comment Date: 5 p.m. ET 3/27/23.

Docket Numbers: ER23-1262-000.

Applicants: Mid-Atlantic Interstate Transmission, LLC, PJM Interconnection, L.L.C.

Description: § 205(d) Rate Filing: Mid-Atlantic Interstate Transmission, LLC submits tariff filing per 35.13(a)(2)(iii: MAIT submits one Engineering and Construction Service Agreement, SA No. 6630 to be effective 5/8/2023.

Filed Date: 3/8/23.

Accession Number: 20230308-5015.

Comment Date: 5 p.m. ET 3/29/23.

Docket Numbers: ER23-1263-000.

Applicants: PJM Interconnection, L.L.C.

Description: Tariff Amendment: Notice of Cancellation of ICSA, SA No. 5310; Queue No. AB2-174 re: 14.1.1 to be effective 9/27/2021.

Filed Date: 3/8/23.

Accession Number: 20230308-5044.

Comment Date: 5 p.m. ET 3/29/23.

Docket Numbers: ER23-1264-000.

Applicants: PJM Interconnection, L.L.C.

Description: Tariff Amendment: Notice of Cancellation of WMPA, SA No. 5376; Queue No. AE1-098 re: withdrawal to be effective 5/5/2023.

Filed Date: 3/8/23.

Accession Number: 20230308-5058.

Comment Date: 5 p.m. ET 3/29/23.

Docket Numbers: ER23-1265-000.

Applicants: PJM Interconnection, L.L.C.

Description: § 205(d) Rate Filing: Revisions to the OATT, OA and RAA re: GDECS Phase 7 to be effective 5/8/2023.

Filed Date: 3/8/23.

Accession Number: 20230308-5067.

Comment Date: 5 p.m. ET 3/29/23.

Docket Numbers: ER23-1266-000.

Applicants: PJM Interconnection, L.L.C.

Description: Tariff Amendment: Notice of Cancellation of WMPA, SA No. 5377; Queue No. AE1-099 re: withdrawal to be effective 5/5/2023.

Filed Date: 3/8/23.

Accession Number: 20230308-5074.

Comment Date: 5 p.m. ET 3/29/23.

Docket Numbers: ER23-1268-000.

Applicants: NorthWestern Corporation.

Description: § 205(d) Rate Filing: Revised Exhibits to Montana Intertie Agreement to be effective 12/1/2022.

Filed Date: 3/8/23.

Accession Number: 20230308-5082.

Comment Date: 5 p.m. ET 3/29/23.

Docket Numbers: ER23-1269-000.

Applicants: Duke Energy Carolinas, LLC.

Description: § 205(d) Rate Filing: DEC-Orangeburg RS No. 611—Reimbursement Agmt to be effective 5/8/2023.

Filed Date: 3/8/23.

Accession Number: 20230308-5084.

Comment Date: 5 p.m. ET 3/29/23.

Docket Numbers: ER23-1270-000.

Applicants: Midcontinent Independent System Operator, Inc

Description: § 205(d) Rate Filing: 2023-03-08_MRES Service Protocols Att O, GG, MM Removal of LIBOR to be effective 6/1/2023.

Filed Date: 3/8/23.

Accession Number: 20230308-5088.

Comment Date: 5 p.m. ET 3/29/23.

Docket Numbers: ER23-1271-000.

Applicants: Niagara Mohawk Power Corporation, New York Independent System Operator, Inc

Description: § 205(d) Rate Filing: Niagara Mohawk Power Corporation submits tariff filing per 35.13(a)(2)(iii: Niagara Mohawk filing of tariff revisions re: Segment A Project cost recovery to be effective 5/8/2023.

Filed Date: 3/8/23.

Accession Number: 20230308-5093.

Comment Date: 5 p.m. ET 3/29/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2023.
Kimberly D. Bose,
Secretary.

[FR Doc. 2023-05160 Filed 3-13-23; 8:45 am]

BILLING CODE 6717-01-P